AGENCY FOR INTERNATIONAL DEVELOPMENT

Board for International Food and Agricultural Development One Hundred and Thirty Second Meeting; Notice of Meeting

Pursuant to the Federal Advisory Committee Act, notice is hereby given of the one hundred and thirty-third meeting of the Board for International Food and Agricultural Development (BIFAD). The meeting will be held from 8:30 a.m. to 4 p.m. on September 28th, 2000, and from 8:30 a.m. to 1:30 p.m. on September 29th, 2000, in the NASULGC Meeting Room, 1307 New York Avenue, NW., Washington, DC.

As part of its agenda, BIFAD will tie together agricultural and environmental perspectives around carbon sequestration issues, and trade & food security perspectives. The next part will return to the theme of constituency-building for foreign assistance. The second day's agenda begins with a response to the livestock revolution, followed by a session on crafting a common message regarding agriculture, universities and USAID.

Those wishing to attend the meeting or obtain additional information about BIFAD should contact Mr. Lawrence Paulson, the Designated Federal Officer for BIFAD. Write him in care of the U.S. Agency for International Development, Ronald Reagan Building, Office of Agriculture and Food Security, 1300 Pennsylvania Avenue, NW., Room 2.11-044, Washington, DC, 20523-2110 or telephone him at (202) 712-1436 or fax (202) 216-3010.

Lawrence Paulson,
USAID Designated Federal Officer for BIFAD, Office of Agriculture and Food Security, Economic Growth Center, Bureau for Global Programs.

[FR Doc. 00-24346 Filed 9-21-00; 8:45 am]

BILLING CODE 6116-01-M